DEPARTMENT OF ENERGY

Environmental Management Site-Specific Advisory Board, Oak Ridge Reservation

AGENCY: Department of Energy.

ACTION: Notice of Open Meeting.

SUMMARY: This notice announces a meeting of the Environmental Management Site-Specific Advisory Board (EM SSAB), Oak Ridge. The Federal Advisory Committee Act (Pub. L. 92-463, 86 Stat. 770) requires that public notice of these meetings be announced in the Federal Register.

DATES: Friday, August 2, 2002, 3:30 p.m.-8:30 p.m.; Saturday, August 3, 2002, 8 a.m.-3 p.m.

ADDRESSES: Rothchild Catering, 8807 Kingston Pike, Knoxville, TN.

FOR FURTHER INFORMATION CONTACT: Pat Halsey, Federal Coordinator, Department of Energy Oak Ridge Operations Office, P.O. Box 2001, EM-922, Oak Ridge, TN 37831. Phone (865) 576-4025; Fax (865) 576-5333 or e-mail: halseypj@oro.doe.gov.

SUPPLEMENTARY INFORMATION: Purpose of the Board: The purpose of the Board is to make recommendations to DOE and its regulators in the areas of environmental restoration, waste management, and related activities.

Tentative Agenda

August 2, 2002

• Presentations and discussions with the Department of Energy, the Tennessee Department of Environment and Conservation, and the Environmental Protection Agency Region 4 to discuss the topics that each agency would like the Board to consider in developing its Fiscal Year (FY) 2003 Annual Work Plan

August 3, 2002

• Evaluate the Board's effectiveness and approach the impact of its achievements over the past year

• Develop the FY 2003 Annual Work Plan by identifying issues and activities from input received from the three agencies, the public, and the FY 2003 standing committee and recommendation evaluations

Public Participation: The meeting is open to the public. Written statements may be filed with the Committee either before or after the meeting. Individuals who wish to make oral statements pertaining to agenda items should contact Pat Halsey at the address or telephone number listed above. Requests must be received five days prior to the meeting and reasonable provision will be made to include the presentation in the agenda. The Deputy Designated Federal Officer is empowered to conduct the meeting in a fashion that will facilitate the orderly conduct of business. Each individual wishing to make public comment will be provided a maximum of five minutes to present their comments at the end of the meeting. This notice is being published less than 15 days prior to the meeting date due to programmatic issues that had to be resolved prior to the meeting date.

Minutes: Minutes of this meeting will be available for public review and copying at the Department of Energy's Information Center at 475 Oak Ridge Turnpike, Oak Ridge, TN between 8 a.m. and 5 p.m. Monday through Friday, or by writing to Pat Halsey, Department of Energy Oak Ridge Operations Office, P.O. Box 2001, EM-922, Oak Ridge, TN 37831, or by calling her at (865) 576-4025.

Issued at Washington, DC, on July 22, 2002.
Rachel M. Samuel,
Deputy Advisory Committee Management Officer.

[FR Doc. 02-18961 Filed 7-25-02; 8:45 am]

BILLING CODE 6450-01-P